DEPARTMENT OF AGRICULTURE

Animal and Plant Health Inspection Service

[Docket No. APHIS-2023-0021]

Notice of Request for Revision to and Extension of Approval of an Information Collection; APHIS Credit and User Fee Accounts

AGENCY: Animal and Plant Health Inspection Service, USDA.

ACTION: Revision to and extension of approval of an information collection; comment request.

SUMMARY: In accordance with the Paperwork Reduction Act of 1995, this notice announces the Animal and Plant Health Inspection Service's (APHIS') intention to request a revision to and extension of approval of an information collection associated with establishing credit accounts and the collection of user fees for certain reimbursable APHIS services.

DATES: We will consider all comments we receive on or before May 12, 2023.

ADDRESSES: You may submit comments by either of the following methods:

• Federal eRulemaking Portal: Go to www.regulations.gov. Enter APHIS-2023-0021 in the Search field. Select the Documents tab, then select the Comment button in the list of documents.

• Postal Mail/Commercial Delivery: Send your comment to Docket No. APHIS-2023-0021, Regulatory Analysis and Development, PPD, APHIS, Station 3A-03.8, 4700 River Road, Unit 118, Riverdale, MD 20737-1238.

Supporting documents and any comments we receive on this docket may be viewed at regulations.gov or in our reading room which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the user fee activities covered by this notice, contact Mrs. Kris Caraher, Review and Analysis Branch Chief, Financial Management Division, MRPBS, APHIS, USDA, 4700 River Road, Unit 54, Riverdale, MD 20737-3148; (301) 851-2834; kris.caraher@usda.gov. For information on the information collection process, contact Mr. Joseph Moxey, APHIS' Paperwork Reduction Act Coordinator, at (301) 851-2483; joseph.moxey@usda.gov.

SUPPLEMENTARY INFORMATION: Title: APHIS Credit and User Fee Accounts.

OMB Control Number: 0579-0055.

Type of Request: Revision to and extension of approval of an information collection.

Abstract: Section 2509 of the Food, Agriculture, Conservation, and Trade Act of 1990, as amended, authorizes the Animal and Plant Health Inspection Service (APHIS) to establish credit accounts and collect user fees for providing import- and export-related services for animals, plants, animal products, birds, germplasm, organisms, and vectors. In addition, this section authorizes APHIS to collect user fees for certain activities and services it provides such as passenger clearance; veterinary diagnostics tests and reagent sales; issuing certificates and permits; conducting and monitoring inspections and treatments related to the import and export of agricultural products; granting commercial conveyance clearances; and charging overtime fees for activities conducted during nonduty hours. The establishment of credit accounts and the collection of user fees for certain reimbursable APHIS services requires various information collection activities, as described below.

APHIS services may be requested in writing, electronically, by telephone, or in person, and must be specific about the specific service requested and the time it is to be performed. The services are typically provided by a Federal inspector, and the information is necessary to schedule the work and to calculate fees due. Normally, the services are provided during regular working hours. If an importer wishes to have shipments cleared at other hours, such services will usually be provided on a reimbursable overtime basis, unless already covered by a user fee. Exporters wishing cargo to be certified during nonworking hours may also utilize this procedure. Certain recurring customers may request that APHIS bill them. These customers may apply for credit accounts with APHIS. The Agency collects certain information to conduct credit checks on prospective applicants to ensure creditworthiness prior to extending credit services and to prepare billings.

APHIS is responsible for ensuring fees collected are correct and that they are remitted in full and in a timely manner. To ensure this, the party (ticketing agents for transportation companies) responsible for collecting and remitting fees must allow APHIS personnel to verify the accuracy of the fees collected and remitted, and otherwise determine compliance with the statute and regulations. We also require whoever is responsible for making fee payments to advise us of the name, address, and telephone number of a responsible officer who is authorized to verify fee calculations, collections, and remittances.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.007 hours per response.

Respondents: Individuals and private and commercial importers or exporters of agricultural plants and animals or their products.

Estimated annual number of respondents: 144,209.

Estimated annual number of responses per respondent: 96.

Estimated annual number of responses: 13,866,321.

Estimated total annual burden on respondents: 95,310 hours. (Due to averaging, the total annual burden hours may not equal the product of the annual number of responses multiplied by the reporting burden per response.)

All responses to this notice will be summarized and included in the request for OMB approval. All comments will also become a matter of public record.

Done in Washington, DC, this 7th day of March 2023.
Michael Watson,
Acting Administrator, Animal and Plant Health Inspection Service.

[FR Doc. 2023-05084 Filed 3-10-23; 8:45 am]

BILLING CODE 3410-34-P